DEPARTMENT OF AGRICULTURE

Submission for OMB Review; Comment Request

September 23, 2014.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Natural Resources Conservation Service

Title: Long Term Contracting.

OMB Control Number: 0578-0013.

Summary of Collection: The Long Term Contracting regulations at 7 CFR Part 630, and the Conservation program regulations at 7 CFR 12, 622, 624, 625, 701 set forth the basic policies, program provisions, and eligibility requirements for owners and operators to enter into and carry out long-term conservation program contracts with technical assistance under the various program. These programs are administered by the Natural Resources Conservation Service (NRCS). These programs authorize federal technical and financial long term cost sharing assistance for conservation treatment with eligible land users and entities. Under the terms of the agreement, the participant agrees to apply, or arrange to apply, the conservation treatment specified in the conservation plan. In return for this agreement, federal financial assistance payments are made to the land user, or third party, upon successful application of the conservation treatment.

Need and Use of the Information: NRCS will collect information using several NRCS forms. The forms are needed to administer NRCS long-term contracting programs as authorized. NRCS uses the information to ensure the proper utilization of program funds.

Description of Respondents: Individuals or households; Farms; Not-for-profit institutions; State, Local or Tribal Government.

Number of Respondents: 5,315.

Frequency of Responses: Reporting; Annually, Other (As required).

Total Burden Hours: 3,657.

Ruth Brown,
Departmental Information Collection Clearance Officer.

[FR Doc. 2014-23103 Filed 9-26-14; 8:45 am]

BILLING CODE 3410-16-P